DEPARTMENT OF HOMELAND SECURITY

U.S. Citizenship and Immigration Services

[CIS No. 2718-22; DHS Docket No. USCIS-2022-0003; 1615-ZB91]

Designation of Ukraine for Temporary Protected Status

AGENCY: U.S. Citizenship and Immigration Services (USCIS), Department of Homeland Security (DHS).

ACTION: Notice of Temporary Protected Status (TPS) designation.

SUMMARY: Through this Notice, the Department of Homeland Security (DHS) announces that the Secretary of Homeland Security (Secretary) has designated Ukraine for Temporary Protected Status (TPS) for 18 months, effective April 19, 2022, or later date if Secretary so determines], through October 19, 2023. This designation allows eligible Ukrainian nationals (and individuals having no nationality who last habitually resided in Ukraine) who have continuously resided in the United States since April 11, 2022, and who have been continuously physically present in the United States since April 19, 2022 to apply for TPS.

DATES:

Designation of Ukraine for TPS: The 18-month designation of Ukraine for TPS is effective on April 19, 2022 and will remain in effect for 18 months, through October 19, 2023.

Registration: The registration period for eligible individuals to submit TPS applications begins April 19, 2022 and will remain in effect through October 19, 2023.

FOR FURTHER INFORMATION CONTACT: Rená Cutlip-Mason, Chief, Humanitarian Affairs Division, Office of Policy and Strategy, U.S. Citizenship and Immigration Services, Department of Homeland Security, by mail at 5900 Capital Gateway Drive, Camp Springs, MD 20746, or by phone at 800-375-5283.

ADDRESSES: For further information on TPS, including guidance on the registration process and additional information on eligibility, please visit the USCIS TPS web page at uscis.gov/tps. You can find specific information about Ukraine's TPS designation by selecting “Ukraine” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at uscis.gov, or visit the USCIS Contact Center at uscis.gov/contactcenter.

Further information will also be available at local USCIS offices upon publication of this Notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action (Approval Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Purpose of This Action (TPS)

Through this notice, DHS sets forth procedures necessary for eligible nationals of Ukraine (or individuals having no nationality who last habitually resided in Ukraine) to submit an initial registration application under the designation of Ukraine for TPS and apply for an Employment Authorization Document (EAD). Under this designation, individuals must submit an initial Ukraine TPS application (Form I-821) and may also submit an application for Employment Authorization (Form I-765), during the 18-month initial registration period that runs from April 19, 2022, through October 19, 2023.¹ In addition to demonstrating continuous residence in the United States since April 11, 2022,² and meeting other eligibility criteria, initial applicants for TPS under this designation must demonstrate that they have been continuously physically present in the United States since April 19, 2022, the effective date of this designation of Ukraine, before USCIS may grant them TPS. DHS estimates that approximately 59,600 individuals may be eligible for TPS under the designation of Ukraine.

¹ In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has recently exercised his discretion to provide for TPS initial registration periods that coincide with the full period of a TPS country's initial designation or redesignation. See, e.g., 86 FR 41863 (Aug. 3, 2021) (providing 18-mos. registration period under new TPS designation of Haiti); 86 FR 41986 (Aug. 4, 2021) (“Extension of Initial Registration Periods for New Temporary Protected Status Applicants Under the Designations for Venezuela, Syria and Burma). For the same reasons, the Secretary is similarly exercising his discretion to provide applicants under this TPS designation of Ukraine with an 18-month initial registration period.

² The “continuous physical presence date” (CPP) is the effective date of the most recent TPS designation of the country, which is either the publication date of the designation announcement in the Federal Register or such later date as the Secretary may establish. The “continuous residence date” (CR) is any date established by the Secretary when a country is designated (or sometimes redesignated) for TPS. See INA § 244(b)(2)(A) (effective date of designation); 244(c)(1)(A)(i-ii) (discussing CR and CPP date requirements).

What is Temporary Protected Status (TPS)?

• TPS is a temporary immigration status granted to eligible nationals of a foreign state designated for TPS under the Immigration and Nationality Act (INA), or to eligible individuals without nationality who last habitually resided in the designated foreign state, regardless of their country of birth.

• During the TPS designation period, TPS beneficiaries are eligible to remain in the United States, may not be removed, and are authorized to obtain EADs so long as they continue to meet the requirements of TPS.

• TPS beneficiaries may also apply for and be granted travel authorization as a matter of discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

Why was Ukraine designated for TPS?

DHS has reviewed country conditions in Ukraine. Based on this review, and in consultation with the Department of State (DOS), the Secretary has determined that an 18-month designation is warranted due to ongoing armed conflict and extraordinary and temporary conditions described below.

Overview

On February 24, 2022, Russia massively expanded its unprovoked military invasion of Ukraine, marking the largest conventional military action in Europe since World War II.³ There is widespread fear and flight of Ukrainian nationals as Russia's forces have continued to engage in significant, sustained bombardment of major cities across the country, including attacks on Ukraine's capital, Kyiv.⁴ This ongoing armed conflict poses a serious threat to the safety of nationals returning to Ukraine. Extraordinary and temporary conditions, including destroyed infrastructure, scarce resources, and lack of access to healthcare, prevent Ukrainian nationals from returning to their homeland in safety.

³ “Russia invades Ukraine on multiple fronts in `brutal act of war',” PBS, Feb. 24, 2022, available at: https://www.pbs.org/newshour/world/russia-invades-ukraine-on-multiple-fronts-in-brutal-act-of-war (last visited Mar. 1, 2022); Natalia Zinets and Aleksandar Vasovic, “Missiles rain down around Ukraine,” Reuters, Feb. 24, 2022, available at: https://www.reuters.com/world/europe/putin-orders-military-operations-ukraine-demands-kyiv-forces-surrender-2022-02-24/ (last visited Mar. 1, 2022).

⁴ Ukraine: Humanitarian Impact Situation Report No. 1, United Nations Office for the Coordination of Humanitarian Affairs, Feb. 26, 2022, available at: https://reliefweb.int/report/ukraine/ukraine-humanitarian-impact-situation-report-no-1-500-pm-26-february-2022 (last visited Mar. 1, 2022).

Ongoing Armed Conflict and Human Rights Abuses

Russia's expanded military invasion of Ukraine has placed civilians at significant risk of physical harm throughout the country.⁵ As of late March 2022, Russia's forces have engaged in sustained shelling campaigns of cities and towns across Ukraine that have harmed, killed, and injured civilians and struck hospitals, schools, and apartment buildings, resulting in at least 3,039 reported civilian casualties according to the United Nations, with more casualties expected.⁶

⁵ Press briefing notes on Ukraine, United Nations Office of the High Commissioner Human Rights, Mar. 1, 2022, available at: https://www.reuters.com/world/europe/putins-nuclear-move-could-make-situation-much-much-more-dangerous-us-official-2022-02-27/ (last visited Mar. 1, 2022).

⁶ “Ukraine: UN chief calls for safe passage from conflict zones, rights body records 1,123 civilian casualties, WHO outlines health concerns,” UN News, Mar. 6, 2022, available at: https://news.un.org/en/story/2022/03/1113372 (last visited Mar. 8, 2022); War Crimes by Russia's Forces in Ukraine, Press Statement, U.S. Secretary of State Antony J. Blinken, Mar. 23, 2022, available at: https://www.state.gov/war-crimes-by-russias-forces-in-ukraine/ (last visited Mar. 25, 2022); UN Office of the High Commissioner for Human Rights, “Ukraine: civilian casualty update 29 March 2022”, Mar. 29, 2022, available at: https://www.ohchr.org/en/news/2022/03/ukraine-civilian-casualty-update-29-march-2022 (last visited Mar. 31, 2022).

Artillery attacks and air strikes by Russia's military forces have become regular occurrences in Kyiv and other cities across Ukraine since the start of the February 2022 invasion.⁷ Aerial bombardments in and around major cities have been reported as Russia's forces continue to target critical infrastructure.⁸ Russia's ground forces have been advancing on four primary axes: From Belarus in the North; from Russia in the Northeast; from the Russia-controlled Donbas region in the East; and Russia-occupied Crimea in the South.

⁷ “Fear, darkness and newborn babies: Inside Ukraine's underground shelters,” The Guardian, Feb. 26, 2022, available at: https://www.theguardian.com/world/2022/feb/26/fear-darkness-and-newborn-babies-inside-ukraine-underground-shelters (last visited Mar. 1, 2022).

⁸ “Russia's invasion of Ukraine in maps—latest updates”, Financial Times, Mar. 1, 2022, available at: https://www.ft.com/content/4351d5b0-0888-4b47-9368-6bc4dfbccbf5 (last visited Mar. 1, 2022).

The scale of attacks harming infrastructure in the city of Kharkiv, where a historic opera house, concert hall, and government building in the city's center were destroyed, has dramatically increased, resulting in numerous civilian casualties.⁹ In the city of Mariupol, Russia's forces have shelled the city, killing civilians with strikes on homes, schools, hospitals and shelters, while preventing pathways for humanitarian aid and civilian evacuation.¹⁰ Residents of the city “have described a freezing hellscape riddled with dead bodies and destroyed buildings” where thousands “are cut off from the world in the besieged city.” ¹¹ The Prosecutor of the International Criminal Court in The Hague has stated that “there is a reasonable basis to believe that both alleged war crimes and crimes against humanity have been committed in Ukraine” during the past eight years, so his Office is proceeding with active investigations, and that its investigations will “encompass any new alleged crimes falling within the jurisdiction of [the] Office” that are committed in Ukraine.¹² Based on information currently available, the U.S. government has assessed that members of Russia's forces have committed war crimes in Ukraine.¹³

⁹ Russian Offensive Campaign Assessment, The Institute for the study of War, p. 1 & p. 5, Feb. 28, 2022, available at: https://www.understandingwar.org/sites/default/files/Russian%20Operations%20Assessments%20Feb28_1.pdf (last visited Mar. 1, 2022); “Ukraine conflict: Russia bombs Kharkiv's Freedom Square and opera house”, BBC, Mar. 1, 2022, available at: https://www.bbc.com/news/world-europe-60567162 (last visited Mar. 1, 2022).

¹⁰ “What is happening in Mariupol, the Ukrainian city under Russian siege?” The Washington Post, Mar. 21, 2022, available at: https://www.washingtonpost.com/world/2022/03/21/ukraine-mariupol-seige-russia-faq/ (last visited Mar. 25, 2022).

¹¹ “What is happening in Mariupol, the Ukrainian city under Russian siege?” The Washington Post, Mar. 21, 2022, available at: https://www.washingtonpost.com/world/2022/03/21/ukraine-mariupol-seige-russia-faq/ (last visited Mar. 25, 2022).

¹² Statement of ICC Prosecutor, Karim A.A. Khan QC, on the Situation in Ukraine: `I have decided to proceed with opening an investigation.', International Criminal Court, Feb. 28, 2022, available at: https://www.icc-cpi.int/Pages/item.aspx?name=20220228-prosecutor-statement-ukraine (last visited Mar. 1, 2022).

¹³ War Crimes by Russia's Forces in Ukraine, Press Statement, U.S. Secretary of State Antony J. Blinken, Mar. 23, 2022, available at: https://www.state.gov/war-crimes-by-russias-forces-in-ukraine/ (last visited Mar. 25, 2022).

Ongoing human rights abuses in the Donbas region and in Russia-occupied Crimea demonstrate the risk to Ukraine's territories under control by Russia's forces and Russia's proxies. In 2014, armed groups began seizing government buildings and territory across the eastern Donbas region bordering Russia.¹⁴ The Office of the U.N. High Commissioner for Human Rights indicated that torture, sexual violence, beatings, asphyxiation, electrocution, deprivation, isolation, and threats were used to extract confessions or information, and force cooperation during the 2014 hostilities.¹⁵ Under a local occupation authority installed by the Russian government, the human rights situation in Crimea deteriorated precipitously, with reports of “members of Crimean Tatar community and their supporters, including journalists, bloggers, activists, and others being subjected to harassment, intimidation, threats, intrusive and unlawful searches of their homes, physical attacks, and enforced disappearances.” ¹⁶

¹⁴ “Arbitrary Detention, Torture and Ill-treatment in the Context of Armed Conflict in Eastern Ukraine 2014-2021”, Office of the United Nations High Commissioner for Human Rights (OHCHR), p. 6, 2021, available at: https://www.ohchr.org/Documents/Countries/UA/UkraineArbDetTorture_EN.pdf (last visited Mar. 1, 2022).

¹⁵ Arbitrary Detention, Torture and Ill-treatment in the Context of Armed Conflict in Eastern Ukraine 2014-2021, Office of the United Nations High Commissioner for Human Rights (OHCHR), p. 2-3, 2021, available at: https://www.ohchr.org/Documents/Countries/UA/UkraineArbDetTorture_EN.pdf (last visited Mar. 1, 2022); see also, Amnesty International Report 2021/22: State of the World's Human Rights, Amnesty International, p. 375, 2021, available at: https://www.amnesty.org/en/wp-content/uploads/2021/06/English.pdf (last visited Mar. 1, 2022).

¹⁶ Crimea: Persecution of Crimean Tatars Intensifies, Human Rights Watch, Nov. 14, 2017, available at: https://www.hrw.org/news/2017/11/14/crimea-persecution-crimean-tatars-intensifies (last visited Mar. 1, 2022).

Humanitarian Situation

The unprovoked war Russia has brought against Ukraine “continues to result in civilian deaths and generate further population displacement, damage civilian infrastructure, and exacerbate humanitarian needs across the country.” ¹⁷ After eight years of on ongoing conflict with Russia, 2.9 million people in Ukraine were “projected to be in need of humanitarian assistance in 2022, the majority of whom, some 54 percent, are women and girls.” ¹⁸ Older persons are among the most affected, as “[t]hirty percent of people in need of humanitarian assistance are older than 60 years of age” with women facing particular hardships.¹⁹ Children and persons with disabilities have faced additional difficulties including access to health care and other services. In particular, “[m]any older persons with disabilities do not have an official disability certificate, which does not allow them to receive a disability allowance from the Government of Ukraine.” ²⁰

¹⁷ Ukraine—Complex Emergency, U.S. Agency for International Development, Mar. 25, 2022, available at: https://www.usaid.gov/sites/default/files/documents/2022-03-25_USG_Ukraine_Complex_Emergency_Fact_Sheet_8.pdf (last visited Apr.12, 2022).

¹⁸ 2022 Humanitarian Needs Overview—Ukraine, UNOCHA, p. 4, Feb. 11, 2022, available at: https://www.humanitarianresponse.info/sites/www.humanitarianresponse.info/files/documents/files/ukraine_2022_hno_eng_2022-02-11.pdf (last visited Mar. 1, 2022).

¹⁹ 2022 Humanitarian Needs Overview—Ukraine, UNOCHA, p. 6, Feb. 11, 2022, available at: https://www.humanitarianresponse.info/sites/www.humanitarianresponse.info/files/documents/files/ukraine_2022_hno_eng_2022-02-11.pdf (last visited Mar. 1, 2022).

²⁰ 2022 Humanitarian Needs Overview—Ukraine, UNOCHA, p. 34, Feb. 11, 2022, available at: https://www.humanitarianresponse.info/sites/www.humanitarianresponse.info/files/documents/files/ukraine_2022_hno_eng_2022-02-11.pdf (last visited Mar. 1, 2022).

Destruction of Infrastructure and Scarce Resources

Since 2014, the armed conflict in the Donbas region has caused significant damage to systems and services in the affected areas, impacting transport and road infrastructure, energy, and water, with over 200,000 people living in areas now cut off from essential services and local markets.²¹ Attacks harming infrastructure in the region have also affected access to essential services such as health care, transportation, utilities, and education. Prior to the 2022 invasion, UNOCHA estimated that approximately 1 million children would be impacted by the ongoing conflict in the Donbas region and that 380,000 of them would need assistance and protection.²² More than 750 educational facilities have been damaged during the conflict ²³ and “over 250,000 children living near the contact line regularly experience shelling and exposure to landmines and explosive remnants of war, which has made them more prone to physical injuries and mental health issues”.²⁴

²¹ Protection Monitoring in 98 communities in the 0-5 km zone from the “contact line,” UNHCR, Feb. 2021, available at: https://app.powerbi.com/view?r=eyJrIjoiYzdhZTNjODYtZTFkZS00ODMxLTk5MGEtNDQwNDczOTU4Zjc4IiwidCI6ImU1YzM3OTgxLTY2NjQtNDEzNC04YTBjLTY1NDNkMmFmODBiZSIsImMiOjh9 (last visited Mar. 1, 2022).

²² 2022 Humanitarian Needs Overview—Ukraine, UNOCHA, p. 35, Feb. 11, 2022, available at: https://www.humanitarianresponse.info/sites/www.humanitarianresponse.info/files/documents/files/ukraine_2022_hno_eng_2022-02-11.pdf (last visited Mar. 1, 2022).

²³ 2022 Humanitarian Needs Overview—Ukraine, UNOCHA, p. 35, Feb. 11, 2022, available at: https://www.humanitarianresponse.info/sites/www.humanitarianresponse.info/files/documents/files/ukraine_2022_hno_eng_2022-02-11.pdf (last visited Mar. 1, 2022).

²⁴ 2022 Humanitarian Needs Overview—Ukraine, UNOCHA, p. 35, Feb. 11, 2022, available at: https://www.humanitarianresponse.info/sites/www.humanitarianresponse.info/files/documents/files/ukraine_2022_hno_eng_2022-02-11.pdf (last visited Mar. 1, 2022).

Ukraine faced problems of aging infrastructure before the February 2022 invasion, which this invasion has exacerbated.²⁵ Since February 24, significant infrastructural damage in Ukraine from Russia's air strikes has “left hundreds of thousands of people without electricity or water, while bridges and roads damaged by shelling have left communities cut off from markets for food and other basic supplies.” ²⁶ Amid air raid sirens, civilians have sought safety underground in subway stations, basements, and bunkers.²⁷ Also, on February 27, 2022, Russia's missiles hit a number of targets vital to Ukraine's infrastructure, including an oil facility near Kyiv, a gas pipeline in Kharkiv, and the Zhuliany Airport.²⁸

²⁵ Risk Assessment of the “Voda Donbasu” Water System, UNICEF, Oct. 2019, available at: https://www.unicef.org/ukraine/reports/VD-risk-assessment-2019 (last visited Mar. 1, 2022).

²⁶ Ukraine: Humanitarian Impact, Situation Report No. 01, OCHA Ukraine, Feb. 26, 2022, available at: https://reliefweb.int/report/ukraine/ukraine-humanitarian-impact-situation-report-no-1-500-pm-26-february-2022 (last visited Mar. 1, 2022).

²⁷ “Fear, darkness and newborn babies: Inside Ukraine's underground shelters”, The Guardian, Feb. 26, 2022, available at: https://www.theguardian.com/world/2022/feb/26/fear-darkness-and-newborn-babies-inside-ukraine-underground-shelters (last visited Mar. 1, 2022).

²⁸ Russia hits Ukrainian oil and gas facilities in wave of attacks, Al Jazeera, Feb. 27, 2022, available at: https://www.aljazeera.com/news/2022/2/27/russia-ukraine-oil-gas-fuel-airport-attacks (last visited Mar. 1, 2022).

Food security is a concern in Ukraine with 1.1 million Ukrainian nationals in need of food assistance—more than a third of these being severely and moderately food insecure.²⁹ The impact on women has been more pronounced and “all available data show that female-headed households are an estimated 1.3 times more often experiencing food insecurity, compared to the overall population.” ³⁰ In February 2022, UNOCHA estimated that 2.5 million Ukrainian nationals were in need of water, sanitation and hygiene assistance.³¹ Those without access to alternative water sources have been most heavily impacted.³²

²⁹ 2022 Humanitarian Needs Overview—Ukraine, UNOCHA, p. 79, Feb. 11, 2022, available at: https://www.humanitarianresponse.info/sites/www.humanitarianresponse.info/files/documents/files/ukraine_2022_hno_eng_2022-02-11.pdf (last visited Mar. 1, 2022).

³⁰ 2022 Humanitarian Needs Overview—Ukraine, UNOCHA, p. 51, Feb. 11, 2022, available at: https://www.humanitarianresponse.info/sites/www.humanitarianresponse.info/files/documents/files/ukraine_2022_hno_eng_2022-02-11.pdf (last visited Mar. 1, 2022).

³¹ 2022 Humanitarian Needs Overview—Ukraine, UNOCHA, p. 73, Feb. 11, 2022, available at: https://www.humanitarianresponse.info/sites/www.humanitarianresponse.info/files/documents/files/ukraine_2022_hno_eng_2022-02-11.pdf (last visited Mar. 1, 2022).

³² 2022 Humanitarian Needs Overview—Ukraine, UNOCHA, p. 39, Feb. 11, 2022, available at: https://www.humanitarianresponse.info/sites/www.humanitarianresponse.info/files/documents/files/ukraine_2022_hno_eng_2022-02-11.pdf (last visited Mar. 1, 2022).

Lack of Access to Healthcare

Shortly after Russia began this offensive in 2022, UNOCHA reported that in Ukraine, the “most pressing humanitarian needs are emergency medical services, critical medicines, health supplies and equipment, safe water for drinking and hygiene, and shelter and protection for those displaced from their home.” ³³ The need for humanitarian health care is high, and approximately 1.52 million Ukrainian nationals are in need of health care assistance.³⁴

³³ Ukraine: Humanitarian Impact, Situation Report No. 01, OCHA Ukraine, Feb. 26, 2022, available at: https://reliefweb.int/report/ukraine/ukraine-humanitarian-impact-situation-report-no-1-500-pm-26-february-2022 (last visited Mar. 1, 2022).

³⁴ 2022 Humanitarian Needs Overview—Ukraine, UNOCHA, p. 87, Feb. 11, 2022, available at: https://www.humanitarianresponse.info/sites/www.humanitarianresponse.info/files/documents/files/ukraine_2022_hno_eng_2022-02-11.pdf (last visited Mar. 1, 2022).

Challenges within Ukraine's health care system have been exacerbated by the massive expansion of armed conflict amidst a pandemic.³⁵ Strikes hitting medical facilities have resulted in injuries and deaths, including among health care workers, and have resulted in critical shortages of medical supplies in some areas.³⁶ Kyiv city authorities reported over 80 babies were born in bomb shelters in the first two nights.³⁷ The COVID-19 pandemic already put significant strain on Ukraine's health care system by stretching its limited capacity.³⁸ In February 2022, Ukraine experienced its worst wave of COVID-19 cases thus far, bringing the total number of cases over 5 million and the number of deaths topping 100,000.³⁹ Hospitals have struggled with the volume of COVID cases and Ukraine has one of the lowest vaccination rates in Europe.⁴⁰

³⁵ Impact of Health Reform on the Primary Healthcare Level in Conflict-Affected Areas of Donetsk and Luhansk Oblasts, Médicos del Mundo, June 2021, available at: https://reliefweb.int/report/ukraine/impact-healthcare-reform-primary-healthcare-level-conflict-affected-areas-donetsk-and (last visited Mar. 1, 2022).

³⁶ Emergency in Ukraine: External Situation Report #3, World Health Organization, Mar. 17, 2022, available at: https://www.who.int/publications/i/item/WHO-EURO-2022-5152-44915-63936 (last visited Mar. 25, 2022).

³⁷ “Fear, darkness and newborn babies: Inside Ukraine's underground shelters”, The Guardian, Feb. 26, 2022, available at: https://www.theguardian.com/world/2022/feb/26/fear-darkness-and-newborn-babies-inside-ukraine-underground-shelters (last visited Mar. 1, 2022).

³⁸ “We are devoted to this work because the health and lives of people are at stake”, United Nations Office of the High Commissioner Human Rights, Aug. 16, 2022, available at: https://www.ohchr.org/EN/NewsEvents/Pages/Ukraine-and-COVID-19.aspx (last visited Mar. 1, 2022).

³⁹ WHO Health Emergency Dashboard, WHO (COVID-19) Homepage—Ukraine, WHO, available at: https://covid19.who.int/region/euro/country/ua (last visited Mar. 1, 2022).

⁴⁰ WHO Health Emergency Dashboard, WHO (COVID-19) Homepage—Ukraine, WHO, available at: https://covid19.who.int/region/euro/country/ua (last visited Mar. 1, 2022).

Displacement

Prior to Russia's full-scale military invasion into Ukraine on February 24, 2022, a large number of Ukrainian citizens had already been internally displaced by the Russia-backed conflict in the Donbas region and Russia's occupation of Crimea since 2014.⁴¹ As of March 5, 2021, well before the onset of the 2022 invasion by Russia, the Ukrainian Ministry of Social Policy had already registered 1,461,770 individuals as internally displaced persons (IDPs).⁴² Among these nearly 1.5 million IDPs, 195,320 were children, 724,786 were elderly and 51,478 were persons with disabilities.⁴³ Moreover, life in Ukraine for many IDPs was dire with an estimated 300,000 IDPs having been identified as in need of livelihood assistance and food assistance for the year 2022, even before the beginning of Russia's offensive in February.⁴⁴

⁴¹ 2022 Humanitarian Needs Overview—Ukraine, UNOCHA, p. 34, Feb. 11, 2022, available at: https://www.humanitarianresponse.info/sites/www.humanitarianresponse.info/files/documents/files/ukraine_2022_hno_eng_2022-02-11.pdf (last visited Mar. 1, 2022).

⁴² 2022 Humanitarian Needs Overview—Ukraine, UNOCHA, p. 34, Feb. 11, 2022, available at: https://www.humanitarianresponse.info/sites/www.humanitarianresponse.info/files/documents/files/ukraine_2022_hno_eng_2022-02-11.pdf (last visited Mar. 1, 2022).

⁴³ Registration of Internal Displacement, UNHCR, Mar. 5, 2021, available at: https://app.powerbi.com/view?r=eyJrIjoiY2RhMmExMjgtZWRlMS00YjcwLWI0MzktNmEwNDkwYzdmYTM0IiwidCI6ImU1YzM3OTgxLTY2NjQtNDEzNC04YTBjLTY1NDNkMmFmODBiZSIsImMiOjh9 (last visited Mar. 1, 2022).

⁴⁴ 2022 Humanitarian Needs Overview—Ukraine, UNOCHA, p. 34, Feb. 11, 2022, available at: https://www.humanitarianresponse.info/sites/www.humanitarianresponse.info/files/documents/files/ukraine_2022_hno_eng_2022-02-11.pdf (last visited Mar. 1, 2022).

The newly intensified and widespread conflict has caused more than four million people to flee Ukraine for Poland, Hungary, Slovakia, Romania, Moldova, and beyond.⁴⁵ The United Nations notes that “women and girls face higher risks of human rights violations and sexual exploitation and abuse, including transactional sex, survival sex and conflict-related sexual violence.” ⁴⁶

⁴⁵ Operational Data Portal, UNHCR, Mar. 30, 2022, available at: https://data2.unhcr.org/en/situations/ukraine (last visited Mar. 31, 2022).

⁴⁶ Rapid Gender Analysis of Ukraine: Secondary data review, UNHCR, Mar. 29, 2022, https://data2.unhcr.org/en/documents/details/91723 (last visited Apr. 4, 2022).

What authority does the Secretary have to designate Ukraine for TPS?

Section 244(b)(1) of the INA, 8 U.S.C. 1254a(b)(1), authorizes the Secretary,⁴⁷ after consultation with appropriate agencies of the U.S. Government, to designate a foreign state (or part thereof) for TPS if the Secretary determines that certain country conditions exist.⁴⁸ The decision to designate any foreign state (or part thereof) is a discretionary decision, and there is no judicial review of any determination with respect to the designation, termination, or extension of a designation. See INA section 244(b)(5)(A); 8 U.S.C. 1254a(b)(5)(A).⁴⁹ The Secretary, in his or her discretion, may then grant TPS to eligible nationals of that foreign state (or individuals having no nationality who last habitually resided in the designated foreign state). See INA section 244(a)(1)(A), 8 U.S.C. 1254a(a)(1)(A).

⁴⁷ INA § 244(b)(1) ascribes this power to the Attorney General. Congress transferred this authority from the Attorney General to the Secretary of Homeland Security. See Homeland Security Act of 2002, Public Law 107-296, 116 Stat. 2135.

⁴⁸ INA § 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at § 244(b)(1).

⁴⁹ This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA section 244(b)(3)(A), 8 U.S.C. 1254a(b)(3)(A). If the Secretary determines that the foreign state continues to meet the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Notice of the Designation of Ukraine for TPS

By the authority vested in me as Secretary under INA section 244, 8 U.S.C. 1254a, I have determined, after consultation with the appropriate U.S. Government agencies, the statutory conditions supporting Ukraine's designation for TPS on the basis of ongoing armed conflict and extraordinary and temporary conditions are met. See INA section 244(b)(1)(A) and (C), 8 U.S.C. 1254a(b)(1)(A) and (C). I estimate approximately 59,600 individuals are eligible to apply for TPS under the designation of Ukraine. On the basis of this determination, I am designating Ukraine for TPS for 18 months, from April 19, 2022 through October 19, 2023. See INA section 244(b)(1)(C) and (b)(2); 8 U.S.C. 1254a(b)(1)(C), and (b)(2).

Alejandro N. Mayorkas,
Secretary, U.S. Department of Homeland Security.

Eligibility and Employment Authorization for TPS

Required Application Forms and Application Fees To Register for TPS

To register for TPS based on the designation of Ukraine, you must submit a Form-821, Application for Temporary Protected Status and pay the filing fee or request a fee waiver, by submitting Form I-912, Request for Fee Waiver. You may be required to pay the biometric services fee. If you can demonstrate an inability to pay the biometric services fee, you may request to have the fee waived. Please see additional information under the “Biometric Services Fee” section of this notice.

You are not required to submit Form I-765 or have an EAD but see below for more information if you want to work in the United States.

For more information on the application forms and fees for TPS, please visit the USCIS TPS web page at uscis.gov/tps. Fees for the Form I-821, the Form I-765, and biometric services are also described in 8 CFR 103.7(b)(1)(i).

How can TPS beneficiaries obtain an employment authorization document (EAD)?

Everyone must provide their employer with documentation showing that they have the legal right to work in the United States. TPS beneficiaries are eligible to obtain an EAD, which proves their legal right to work. TPS applicants who want to obtain an EAD must file a Form I-765, Application for Employment Authorization and pay the Form I-765 fee or request a fee waiver, by submitting Form I-912, Request for Fee Waiver. TPS applicants may file this form along with their TPS application, or at a later date, provided their TPS application is still pending or has been approved.

Refiling an Initial TPS Registration Application After Receiving a Denial of a Fee Waiver Request

If you receive a denial of a fee waiver request, you must refile your Form I-821 for TPS along with the required fees during the registration period, which extends until October 19, 2023. You may also file for your Employment Authorization Document on Form I-765 with payment of the fee along with your TPS application or at any later date you decide you want to request an EAD during the registration period.

Filing Information

USCIS offers the option to applicants for TPS under Ukraine's designation to file Form I-821 and related requests for EADs online or by mail. When filing a TPS application, applicants can also request an EAD by submitting a completed Form I-765, Request for Employment Authorization, with their Form I-821.

Online filing: Form I-821 and I-765 are available for concurrent filing online.⁵⁰ To file these forms online, you must first create a USCIS online account.⁵¹

⁵⁰ Find information about online filing at Forms Available to File Online, https://www.uscis.gov/file-online/forms-available-to-file-online.

⁵¹ https://myaccount.uscis.gov/users/sign_up.

Mail filing: Mail your application for TPS to the proper address in Table 1.

Table 1—Mailing Addresses

Mail your completed Application for Form I-821, Temporary Protected Status and Form I-765, Application for Employment Authorization, Form I-912, Request for Fee Waiver, if applicable, and supporting documentation to the proper address in Table 1.

Table 1—Mailing Addresses
If you . . . | Mail to . . .
Are a beneficiary under the TPS designation for Ukraine and you live in the following states: • Alabama • Alaska • American Samoa • Arizona • Arkansas • Colorado • Connecticut • Delaware • District of Columbia • Florida • Georgia • Guam • Hawaii • Idaho • Illinois • Indiana • Iowa • Kansas • Kentucky • Louisiana • Maine • Maryland • Massachusetts • New York • Ohio | USCIS Chicago Lockbox. U.S. Postal Service (USPS): U.S. Citizenship and Immigration Services, Attn: TPS Ukraine, P.O. Box 4464, Chicago, IL 60680-4464. FedEx, UPS, or DHL: U.S. Citizenship and Immigration Services, Attn: TPS Ukraine (Box 4464), 131 S Dearborn St., 3rd Floor, Chicago, IL 60603-5517.
Are a beneficiary under the TPS designation for Ukraine and you live in the following states: • California • New Jersey • Michigan • Minnesota • Mississippi • Missouri • Montana • Nebraska • Nevada • New Hampshire • New Mexico • North Carolina • North Dakota • Northern Mariana Islands • Oklahoma • Oregon • Pennsylvania • Puerto Rico • Rhode Island • South Carolina • South Dakota • Tennessee • Texas • Utah • Vermont • Virgin Islands • Virginia • Washington • West Virginia • Wisconsin • Wyoming | USCIS Phoenix Lockbox. U.S. Postal Service (USPS): U.S. Citizenship and Immigration Services, Attn: TPS Ukraine, P.O. Box 24047, Phoenix, AZ 85074-4047. FedEx, UPS, or DHL: U.S. Citizenship and Immigration Services, Attn: TPS Ukraine (Box 24047), 1820 E Skyharbor Circle S, Suite 100, Phoenix, AZ 85034-4850.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at uscis.gov/tps under “Ukraine.”

Travel

TPS beneficiaries may also apply for and be granted travel authorization as a matter of discretion. You must file for travel authorization if you wish to travel outside the United States. If granted, travel authorization gives you permission to leave the United States and return during a specific period. To request travel authorization, you must file Form I-131, Application for Travel Document, available at www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you . . . | Mail to . . .
Are filing Form I-131 together with a Form I-821, Application for Temporary Protected Status | The address provided in Table 1.
Are filing Form I-131 based on a pending or approved Form I-821, you must include a copy of the receipt notice (Form I-797C) showing we accepted or approved your Form I-821 | USCIS Dallas Lockbox. U.S. Postal Service (USPS): U.S. Citizenship and Immigration Services, Attn: I-131 TPS, P.O. Box 660167, Dallas, TX 75266-0867.
| FedEx, UPS, or DHL: U.S. Citizenship and Immigration Services, Attn: I-131 TPS, 2501 S State Hwy. 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at uscis.gov/tps. If necessary, you may be required to visit an Application Support Center to have your biometrics captured. For additional information on the USCIS biometric screening process, please see the USCIS Customer Profile Management Service Privacy Impact Assessment, available at dhs.gov/privacy.

General Employment-Related Information for TPS Applicants and Their Employers

How can I obtain information on the status of my TPS application and EAD request?

To get case status information about your TPS application, as well as the status of your TPS-based EAD request, you can check Case Status Online at uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

When hired, what documentation may I show to my employer as evidence of identity and employment authorization when completing Form I-9?

You can find the Lists of Acceptable Documents on the last page of Form I-9, Employment Eligibility Verification, as well as the Acceptable Documents web page at uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at uscis.gov/I-9Central. An EAD is an acceptable document under List A.

If I have an EAD based on another immigration status, can I obtain a new TPS-based EAD?

Yes, if you are eligible for TPS, you can obtain a new TPS-based EAD, regardless of whether you have an EAD or work authorization based on another immigration status. If you want to obtain a new TPS-based EAD valid through October 19, 2023, then you must file Form I-765, Application for Employment Authorization, and pay the associated fee (unless USCIS grants your fee waiver request).

Can my employer require that I provide any other documentation such as evidence of my status or proof of my Ukrainian citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Ukrainian citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from records available to DHS.

Employers may not terminate, suspend, delay training, withhold or lower pay, or take any adverse action against an employee because of a TNC while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at justice.gov/ierandtheUSCISandE-Verifywebsitesatuscis.gov/i-9-central and e-verify.gov.

Note Regarding Federal, State, and Local Government Agencies (Such as Departments of Motor Vehicles)

For Federal purposes, individuals approved for TPS may show their Form I-797, Notice of Action, indicating approval of their Form I-821 application, or their A12 or C19 EAD to prove that they have TPS. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are covered under TPS or show you are authorized to work based on TPS. Examples of such documents are:

• Your new EAD with a category code of A12 or C19 for TPS, regardless of your country of birth;

• A copy of your Form I-94, Arrival/Departure Record; or

• Form I-797, the notice of approval, for your Form I-821, Application for Temporary Protected Status, if you received one from USCIS.

Check with the government agency regarding which document(s) the agency will accept. Some benefit-granting agencies use the SAVE program to confirm the current immigration status of applicants for public benefits. SAVE can verify when an individual has TPS based on the documents above. In most cases, SAVE provides an automated electronic response to benefit-granting agencies within seconds, but occasionally verification can be delayed. You can check the status of your SAVE verification by using CaseCheck at uscis.gov/save/save-casecheck, then by clicking the “Check Your Case” button. CaseCheck is a free service that lets you follow the progress of your SAVE verification using your date of birth and SAVE verification case number or an immigration identifier number that you provided to the benefit-granting agency. If an agency has denied your application based solely or in part on a SAVE response, the agency must offer you the opportunity to appeal the decision in accordance with the agency's procedures. If the agency has received and acted on or will act on a SAVE verification and you do not believe the final SAVE response is correct, please see the SAVE Records: Fast Facts For Benefit Applicants sheet under SAVE Resources at https://www.uscis.gov/save/save-resources for information about how to correct or update your immigration record.

[FR Doc. 2022-08390 Filed 4-18-22; 8:45 am]

BILLING CODE 9111-97-P